NATIONAL FOUNDATION ON THE ARTS AND THE HUMANITIES

Institute of Museum and Library Services

Libraries and Broadband: Urgency and Impact; Public Hearing

AGENCY: Institute of Museum and Library Services (IMLS).

ACTION: Notice of public hearing; request for comments.

SUMMARY: The U.S. Institute of Museum and Library Services is holding a public hearing, “Libraries and Broadband: Urgency and Impact,” to examine the need for high speed broadband in America's libraries. The Institute of Museum and Library Services is charged with advising the President and Congress about the library, museum and information service needs of the American public.

DATES: Public Hearing: April 17, 2014, 9:00 a.m.—12:00 p.m. Requests to Participate: Submit requests to participate at the meeting by March 24, 2014. Written Comments: Written comments received by May 1, 2014 will be part of the record.

ADDRESSES: The public hearing will be held at Martin Luther King Jr. Memorial Library, 901 G St. NW., Washington, DC 20001.

FOR FURTHER INFORMATION CONTACT: Gladstone Payton, Congressional Affairs Officer, Institute of Museum and Library Services, gpayton@imls.gov. Written comments should be directed to comments@imls.gov. Comments received by May 1, 2014 will be part of the record. Requests to participate in the hearing should be directed to comments@imls.gov by March 24, 2014. To make special arrangements for persons with disabilities, contact: elyons@imls.gov.

SUPPLEMENTARY INFORMATION: For the nation's 123,000 school, public, research and academic libraries and the millions of Americans that they serve, it is vital that libraries have the high speed internet connections the public demands for educational, cultural, health and workforce information and services. Presidential initiatives like Connect-Ed and the FCC Chairman's call for modernization of the E-rate program have put a spotlight on the urgency to equip schools and libraries with high speed broadband connections. The Institute of Museum and Library Services (IMLS) has primary responsibility for the development and implementation of policy to ensure the availability of museum, library and information services adequate to meet the essential information, education, research, economic, cultural and civic needs of the people of the United States. See 20 U.S.C. Section 9103(c)(1). In carrying out this responsibility, IMLS is authorized to engage with Federal, State, and local government agencies and private entities in assessing current needs and coordinating the development of plans, policies, and activities to meet such needs effectively. Id. at Section (c)(2). Pursuant to the authority granted in 20 U.S.C. Section 9110, IMLS is conducting this public hearing for the purpose of establishing a public record specifically focused on the need for and impact of high speed broadband connectivity in America's libraries.

The Institute will hear from witnesses on the following topics:

Panel One: The Vision, What's Working: This panel will explore innovative practices and partnerships that are serving individuals and communities well.

Panel Two: The Data: This panel will explore what is known about broadband connections and services in America's libraries.

Panel Three: The Urgency, What's At Risk: This panel will explore risks associated with insufficient connectivity in libraries.

The hearing is open to the public, subject to space availability. Written comments for the hearing will be accepted and must be received on or before May 1, 2014, in order to be included in the hearing record. Each comment must include the author's name and organizational affiliation, if any.

Signed: March 5, 2014.
Nancy E. Weiss,
General Counsel.

[FR Doc. 2014-05154 Filed 3-10-14; 8:45 am]

BILLING CODE 7036-01-P